NATIONAL SCIENCE FOUNDATION

Advisory Committee for Computer and Information Science and Engineering; Notice of Meeting

In accordance with the Federal Advisory Committee Act (Pub. L. 92-463, as amended), the National Science Foundation (NSF) announces the following meeting:

NAME AND COMMITTEE CODE: Advisory Committee for Computer and Information Science and Engineering (#1115).

DATE AND TIME: December 16, 2022; 11:00 a.m.-5:00 p.m. (Eastern).

PLACE: NSF, 2415 Eisenhower Avenue, Alexandria, VA 22314 (Virtual).

Virtual meeting attendance only; to attend the virtual meeting, please send your request for the virtual meeting link to the following email: cmessam@nsf.gov.

TYPE OF MEETING: Open.

CONTACT PERSONS: KaJuana Mayberry, National Science Foundation, 2415 Eisenhower Avenue, Alexandria, VA 22314; Telephone: (703) 292-8900; email: kmayberry@nsf.gov.

PURPOSE OF MEETING: To provide advice, recommendations and counsel on major goals and policies pertaining to Computer and Information Science and Engineering programs and activities.

AGENDA:

• NSF and CISE update

• NSF investments in cybersecurity research

• Infrastructure for computing research

Dated: November 15, 2022.
Crystal Robinson,
Committee Management Officer.

[FR Doc. 2022-25215 Filed 11-17-22; 8:45 am]

BILLING CODE 7555-01-P